DEPARTMENT OF COMMERCE

Economic Development Administration

[991215339-6042-20]

Solicitation of Proposals for Economic Development Assistance Programs

AGENCY: Economic Development Administration (EDA), Department of Commerce (DOC).

ACTION: Notice and request for proposals.

SUMMARY: The Economic Development Administration (EDA) is soliciting proposals for the following programs authorized by the Public Works and Economic Development Act of 1965 (42 U.S.C. 3121 et seq.) (PWEDA): (1) Public Works and Economic Development Investments Program, (2) Planning Program, (3) Local Technical Assistance Program, and (4) Economic Adjustment Assistance Program. EDA's mission is to lead the federal economic development agenda by promoting innovation and competitiveness, preparing American regions for growth and success in the worldwide economy. In implementing this mission pursuant to its authorizing statute, PWEDA, EDA advances economic growth by assisting communities and regions experiencing chronic high unemployment and low per capita income to create an environment that fosters innovation, promotes entrepreneurship, and attracts increased private capital investment. Under the Trade Act of 1974, as amended (19 U.S.C. 2341-2391) (Trade Act), EDA also provides technical assistance to firms adversely affected by increased import competition.

DATES: Proposals are accepted on a continuing basis and formal applications are invited and processed as received. Generally, two months are required for EDA to reach a final decision after receipt of a completed formal application invited by EDA that meets all requirements.

ADDRESSES: For applicants in Alabama, Florida, Georgia, Kentucky, Mississippi, North Carolina, South Carolina and Tennessee, please send proposals to:

Economic Development Administration, Atlanta Regional Office, 401 West Peachtree Street, NW., Suite 1820, Atlanta, Georgia 30308, Telephone: (404) 730-3002, Fax: (404) 730-3025.

For applicants in Arkansas, Louisiana, New Mexico, Oklahoma and Texas, please send proposals to:

Economic Development Administration, Austin Regional Office, 504 Lavaca, Suite 1100, Austin, Texas 78701-2858, Telephone: (512) 381-8144, Fax: (512) 381-8177.

For applicants in Illinois, Indiana, Michigan, Minnesota, Ohio and Wisconsin, please send proposals to:

Economic Development Administration, Chicago Regional Office, 111 North Canal Street, Suite 855, Chicago, Illinois 60606, Telephone: (312) 353-7706, Fax: (312) 353-8575.

For applicants in Colorado, Iowa, Kansas, Missouri, Montana, Nebraska, North Dakota, South Dakota, Utah and Wyoming, please send proposals to:

Economic Development Administration, Denver Regional Office, 1244 Speer Boulevard, Room 670, Denver, Colorado 80204, Telephone: (303) 844-4715, Fax: (303) 844-3968.

For applicants in Connecticut, Delaware, District of Columbia, Maine, Maryland, Massachusetts, New Hampshire, New Jersey, New York, Pennsylvania, Puerto Rico, Rhode Island, Vermont, U.S. Virgin Islands and West Virginia, please send proposals to:

Economic Development Administration, Philadelphia Regional Office, Curtis Center, 601 Walnut Street, Suite 140 South, Philadelphia, Pennsylvania 19106, Telephone: (215) 597-4603, Fax: (215) 597-1063.

For applicants in Alaska, American Samoa, Arizona, California, Guam, Hawaii, Idaho, Marshall Islands, Micronesia, Nevada, Northern Mariana Islands, Oregon, Republic of Palau and Washington, please send proposals to:

Economic Development Administration, Seattle Regional Office, Jackson Federal Building, Room 1890, 915 Second Avenue, Seattle, Washington 98174, Telephone: (206) 220-7660, Fax: (206) 220-7669.

For a copy of the complete federal funding opportunity (FFO) announcement for this request for proposals, please see the Internet Web site listed below under “Electronic Access.”

FOR FURTHER INFORMATION CONTACT: For additional information or for a paper copy of the FFO, contact the appropriate EDA regional office listed above. EDA's Internet website at http://www.eda.gov contains additional information on EDA and its programs.

SUPPLEMENTARY INFORMATION:

Electronic Access

EDA is currently unable to accept electronic submissions of proposal packages. However, paper pre-applications may be downloaded from EDA's Internet Web site at http://www.eda.gov or may be obtained from the appropriate EDA regional office or Economic Development Representative.

The FFO for the FY 2006 Economic Development Assistance Programs competition is available at http://www.grants.gov. Additional information also is available on EDA's Internet Web site at http://www.eda.gov.

Funding Availability

Funding appropriated under the FY 2006 Science, State, Justice, Commerce and Related Agencies Appropriations Act (Pub. L. 109-108, 119 Stat. 2290 (2005)) is available for the economic development assistance programs authorized by PWEDA and for the Trade Adjustment Assistance For Firms program authorized under the Trade Act. Funds in the amount of $250,741,104 have been appropriated for FY 2006 and shall remain available until expended.

This request for proposals covers the following programs under PWEDA: (1) Public Works and Economic Development Investments Program, (2) Planning Program, (3) Technical Assistance Program, and (4) Economic Adjustment Assistance Program. Under the Technical Assistance Program, this request for proposals covers Local Technical Assistance only. A separate FFO announcement will be posted at http://www.grants.gov and will set forth the specific funding priorities, application and selection processes, time frames, and evaluation criteria for certain National Technical Assistance projects to be funded under the FY 2006 appropriation. Similarly, a separate FFO announcement has been posted at http://www.grants.gov that sets forth the specific funding priorities, application and selection processes, time frames, and evaluation criteria for University Center projects to be funded with FY 2006 appropriated program funds.

Statutory Authority

The authority for the (1) Public Works and Economic Development Investments Program, (2) Planning Program, (3) Technical Assistance Program, and (4) Economic Adjustment Assistance Program is PWEDA. The authority for the Trade Adjustment Assistance for Firms program is Chapter 3 of Title II of the Trade Act. On August 11, 2005, EDA published an interim final rule (70 FR 47002) to reflect the amendments made to PWEDA by the Economic Development Administration Reauthorization Act of 2004 (Pub. L. 108-373, 118 Stat. 1756 (2004)). With limited exceptions, the interim final rule became effective on October 1, 2005. You may access the interim final rule and PWEDA on EDA's Internet Web site at http://www.eda.gov.

On December 15, 2005, EDA published a second interim final rule in the Federal Register (70 FR 74193) to change the provisions of the August 11, 2005 interim final rule consistent with the direction provided in the Conference Report (H.R. Rep. No. 109-272 (2006)) accompanying the FY 2006 Science, State, Justice, Commerce and Related Agencies Appropriations Act (Pub. L. 109-108, 119 Stat. 2290 (2005)). The regulations contained in the August 11, 2005 interim final rule, together with subsequent changes made thereto by the December 15, 2005 interim final rule, will govern all awards made under this solicitation for proposals. In publishing a final rule during 2006, EDA will consider all comments received during the public comment period (held from August 11, 2005 through November 14, 2005) on all aspects of the August 11, 2005 interim final rule.

Catalog of Federal Domestic Assistance (CFDA) Numbers

11.300, Grants for Public Works and Economic Development Facilities; 11.302, Economic Development—Support for Planning Organizations; 11.303, Economic Development—Technical Assistance; 11.307, Economic Adjustment Assistance; 11.313, Economic Development—Trade Adjustment Assistance.

Eligibility

Pursuant to PWEDA, eligible applicants for and eligible recipients of EDA investment assistance include a District Organization; an Indian Tribe or a consortium of Indian Tribes; a State, a city or other political subdivision of a State, including a special purpose unit of a State or local government engaged in economic or infrastructure development activities, or a consortium of political subdivisions; an institution of higher education or a consortium of institutions of higher education; or a public or private non-profit organization or association acting in cooperation with officials of a political subdivision of a State. See section 3 of PWEDA (42 U.S.C. 3122) and 13 CFR 300.3. Projects eligible for Public Works or Economic Adjustment investment assistance include those projects located in regions meeting “special need” criteria, as set forth in section VIII.B. of the FFO.

Cost Sharing or Matching Share Requirements

Generally, the amount of the EDA grant may not exceed fifty (50) percent of the total cost of the project. Projects may receive an additional amount that shall not exceed thirty (30) percent, based on the relative needs of the region in which the project will be located, as determined by EDA. See section 204(a) of PWEDA (42 U.S.C. 3144) and 13 CFR 301.4(b)(1). For projects of a national scope under 13 CFR part 306 (Training, Research and Technical Assistance), and for all other projects under 13 CFR part 306, after the application of the first two (2) sentences of this paragraph, the Assistant Secretary of Commerce for Economic Development (Assistant Secretary) has the discretion to establish a maximum EDA investment rate of up to one-hundred (100) percent where the project (i) merits and is not otherwise feasible without an increase to the EDA investment rate; or (ii) will be of no or only incidental benefit to the recipient. See section 204(c)(3) of PWEDA (42 U.S.C. 3144) and 13 CFR 301.4(b)(4). In the case of EDA investment assistance to a(n) (i) Indian Tribe, (ii) State (or political subdivision of a State) that the Assistant Secretary determines has exhausted its effective taxing and borrowing capacity, or (iii) non-profit organization that the Assistant Secretary determines has exhausted its effective borrowing capacity, the Assistant Secretary has the discretion to establish a maximum EDA investment rate of up to one hundred (100) percent of the total project cost. See sections 204(c)(1) and (2) of PWEDA (42 U.S.C. 3144) and 13 CFR 301.4(b)(5). Potential applicants should contact the appropriate EDA regional office to make these determinations.

While cash contributions are encouraged, in-kind contributions, consisting of contributions of space, equipment, assumptions of debt, and services, may provide the non-Federal share requirement of the total project cost. See section 204(b) of PWEDA (42 U.S.C. 3144). EDA will fairly evaluate all in-kind contributions, which must be eligible project costs and meet applicable Federal cost principles and uniform administrative requirements. Funds from other Federal financial assistance awards are considered matching share funds only if authorized by statute that allows such use, which may be determined by EDA's reasonable interpretation of the statute. See 13 CFR 300.3. The applicant must show that the matching share is committed to the project, available as needed and not conditioned or encumbered in any way that precludes its use consistent with the requirements of EDA investment assistance. See 13 CFR 301.5.

Intergovernmental Review

Applications for assistance under EDA's programs are subject to the requirements of Executive Order 12372, “Intergovernmental Review of Federal Programs.”

Evaluation and Selection Procedures

Each pre-application proposal is circulated by a project officer within the appropriate regional office staff for review and comments. When the necessary input and information are obtained, the pre-application proposal is considered by the regional office's Investment Review Committee (IRC), which is comprised of regional office staff. The IRC discusses the proposal (and all pertinent documentation) and evaluates it on two levels of analysis. The IRC (a) determines if the proposal meets the program-specific award and application requirements provided in 13 CFR 305.2 for Public Works investments, 13 CFR 303.3 for Planning investments, 13 CFR 306.2 for Local and National Technical Assistance, and 13 CFR 307.2 and 307.4 for Economic Adjustment Assistance, and (b) rates each proposal using the general evaluation criteria set forth in 13 CFR 301.8. These general evaluation criteria are provided in section V.B. of the FFO. Project proposals for University Centers and National Technical Assistance will be evaluated pursuant to separate Federal Register Notices published for FY 2006. With respect to the Trade Adjustment Assistance for Firms program under the Trade Act, continuation grants will not be competed and no new Trade Adjustment Assistance Center (TAAC) grants will be awarded this year. See 19 U.S.C. 2341-2391 and 13 CFR part 315.

After completing its evaluation, the IRC recommends to the Regional Director whether or not an application should be invited, documenting its recommendation in the meeting minutes or in the Investment Proposal Summary and Evaluation Form. For quality control assurance, EDA Headquarters reviews the IRC's analysis of the project's fulfillment of the investment policy guidelines, as set forth in section V.B. of the FFO and in 13 CFR 301.8. After receiving quality control clearance, the Selecting Official (depending on the program, either the Regional Director or the Assistant Secretary) considers the evaluations provided by the IRC and the degree to which one or more of the funding priorities provided below are included (or packaged together), in making his/her decision as to which proponents should be invited to submit a formal application for investment assistance. The Selecting Official then formally invites the successful proponents to submit formal applications. If the Selecting Official declines to invite a full application, he/she provides written notice to the proponent. In the case of a continuation grant, no pre-application proposal is required. Proposals received after the date of this notice will be processed in accordance with the requirements set forth herein until the next annual FFO is posted on http://www.grants.gov and the related notice and request for proposals is published in the Federal Register.

If a proponent is selected to submit a formal application, the appropriate regional office will provide application materials and guidance in completing them. The proponent will generally have thirty (30) days to submit the completed application materials to the regional office. EDA staff will work with the proponent to resolve application deficiencies. If a completed formal application is accepted, the proponent and Economic Development Representative are notified and it is forwarded for final review and processing in accordance with EDA and Department of Commerce procedures.

Evaluation Criteria

EDA will select investment proposals competitively based on the investment policy guidelines and funding priority considerations identified in this notice. All EDA investment proposals will be competitively evaluated primarily on their ability to satisfy one (1) or more of the following investment policy guidelines, each of equivalent weight and which also are set forth in 13 CFR 301.8:

1. Be market-based and results driven. An EDA investment will capitalize on a region's competitive strengths and will positively move a regional economic indicator measured on EDA's Balanced Scorecard, such as: An increased number of higher-skill, higher-wage jobs; increased tax revenue; or increased private sector investment.

2. Have strong organizational leadership. An EDA investment will have strong leadership, relevant project management experience, and a significant commitment of human resources talent to ensure a project's successful execution.

3. Advance productivity, innovation, and entrepreneurship. An EDA investment will embrace the principles of entrepreneurship, enhance regional clusters, and leverage and link technology innovators and local universities to the private sector to create the conditions for greater productivity, innovation, and job creation.

4. Look beyond the immediate economic horizon, anticipate economic changes, and diversify the local and regional economy. An EDA investment will be part of an overarching, long-term comprehensive economic development strategy that enhances a region's success in achieving a rising standard of living by supporting existing industry clusters, developing emerging new clusters, or attracting new regional economic drivers.

5. Demonstrate a high degree of local commitment by exhibiting:

• High levels of local government or non-profit matching funds and private sector leverage;

• Clear and unified leadership and support by local elected officials; and

• Strong cooperation between the business sector, relevant regional partners and local, State and Federal governments.

Funding Priorities

Successful applications for EDA's investment programs will be regionally-driven initiatives in areas of the Nation that are underperforming and eligible for EDA programs that meet one or more of the following core criteria (investment proposals that meet more than one core criterion will be given more favorable consideration):

1. Investments in support of long-term, coordinated and collaborative regional economic development approaches:

• Establish comprehensive regional economic development strategies that identify promising opportunities for long-term economic growth.

• Exhibit demonstrable, committed multi-jurisdictional support from leaders across all sectors:

i. Public (e.g., mayors, city councils, county executives, senior state leadership);

ii. Institutional (e.g., institutions of higher learning);

iii. Non-profit (e.g., chambers of commerce, development organizations); and

iv. Private (e.g., leading regional businesses, significant regional industry associations).

• Generate quantifiable positive economic outcomes.

2. Investments that support innovation and competitiveness:

• Develop and enhance the functioning and competitiveness of leading and emerging industry clusters in an economic region.

• Advance technology transfer from research institutions to the commercial marketplace.

• Bolster critical infrastructure (e.g., transportation, communications, specialized training) to prepare economic regions to compete in the world-wide marketplace.

3. Investments that encourage entrepreneurship:

• Cultivate a favorable entrepreneurial environment consistent with regional strategies.

• Enable economic regions to identify innovative opportunities among growth-oriented small and medium-size enterprises.

• Promote community and faith-based entrepreneurship programs aimed at improving economic performance in an economic region.

Additional consideration will be given to investment proposals which also accomplish the following:

• Respond to sudden and severe economic dislocations (e.g., major layoffs and/or plant closures, disasters).

• Enable BRAC-impacted communities to transition from a military to civilian economy.

• Advance the goals of linking historic preservation and economic development as outlined by Executive Order 13287, “Preserve America.”

The Department of Commerce Pre-Award Notification Requirements for Grants and Cooperative Agreements

Administrative and national policy requirements for all Department of Commerce awards are contained in the Department of Commerce Pre-Award Notification Requirements for Grants and Cooperative Agreements, published in the Federal Register on December 30, 2004 (69 FR 78389). This notice may be accessed by entering the Federal Register volume and page number provided in the previous sentence at the following Internet Web site: http://gpoaccess.gov/fr/retrieve.html.

Paperwork Reduction Act

This document contains collection-of-information requirements subject to the Paperwork Reduction Act (PRA). The use of Form ED-900P has been approved by OMB under Control Number 0610-0094. Notwithstanding any other provision of law, no person is required to respond to, nor shall any person be subject to a penalty for failure to comply with, a collection of information subject to the requirements of the PRA unless that collection of information displays a currently valid OMB Control Number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comments are not required by the Administrative Procedure Act or any other law for this rule concerning grants, benefits and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Sandy K. Baruah,
Assistant Secretary of Commerce for Economic Development.

[FR Doc. E6-2545 Filed 2-22-06; 8:45 am]

BILLING CODE 3510-24-P